DEPARTMENT OF COMMERCE

Economic Development Administration

Award for Excellence in Economic Development

ACTION: Proposed collection, comment request.

SUMMARY: The Department of Commerce, as part of its continuing effort to reduce paperwork and respondent burden, invites the general public and other Federal agencies to take this opportunity to comment on proposed or continuing information collections, as required by the Paperwork Reduction Act of 1995, Public Law 104-13 (44 U.S.C. 3506(C)(2)(A)).

DATES: Written comments must be submitted on or before April 18, 2005.

ADDRESSES: Direct all written comments to Diana Hynek , Departmental Paperwork Clearance Officer, Department of Commerce, Room 6625, 14th and Constitution Avenue, NW., Washington, DC 20230 or via Internet at dhynek@doc.gov.

FOR FURTHER INFORMAITON CONTACT: Requests for additional information or copies of the information collection instrument and instructions should be directed to Barbara Earman, Intergovernmental Affairs Division, Room 7816, Washington, DC 20230, telephone: (202) 482-2900.

SUPPLEMENTARY INFORMATION:

I. Abstract

EDA provides a broad range of economic development assistance to help distressed communities design and implement effective economic development strategies. Part of this assistance includes disseminating information about best practices and encouraging collegial learning among economic development practitioners. EDA has created the Award for Excellence in Economic Development to recognize outstanding economic development activities of national importance. In order to make Awards for Excellence in Economic Development, EDA must collect two kinds of information: (a) information identifying the nominee and contacts within the organization being nominated and (b) information explaining why the nominee should be given the award. The information will be used to determine those applicants best meeting the preannounced selection criteria. Use of a nomination form standardizes and limits the information collected as part of the nomination process. This makes the competition fair and eases any burden on applicants and reviewers alike. Participation in the competition is voluntary. The award is strictly honorary.

II. Method of Collection

As part of the development of the Award for Excellence in Economic Development, EDA has designed a short nomination form. Nominees will submit the form to EDA, where they will be screened for completeness and forwarded to the Selection Panel for review. The information will be used by the Selection Panel to determine those applicants best meeting the reannounced selection criteria. The Selection Panel will include: three representatives of the economic development practitioner community; one member from academe; three representatives of the Economic Development Administration; and up to two at large members.

III. Data

OMB Number(s):

Form Number: Not applicable.

Burden: 150 hours.

Type of Review: New.

Affected Public: State, local, or Tribal Government and not-for-profit organizations.

Estimated Number of Respondents: 50.

Estimated Time per Response: 3 hours.

Estimated Total Annual Burden Hours: 150.

Estimated Total Annual Cost: $11,180.

IV. Request for Comments

Comments are invited on: (a) Whether the proposed collection of information is necessary for the proper performance of the functions of the agency, including whether the information shall have practical utility; (b) the accuracy of the agency's estimate of the burden (including hours and cost) of the proposed collection of information; (c) ways to enhance the equality, utility and clarity of the information to be collected; and (d) ways to minimize the burden of the collection of information on respondents, including through the use of automated collection techniques of other forms of information technology.

Comments submitted in response to this notice will be summarized and/or included in the request for OMB approval of this information collection, they also will become a matter of public record.

Dated: February 10, 2005.
Madeleine Clayton,
Management Analyst, Office of the Chief Information Officer.

[FR Doc. 05-3034 Filed 2-16-05; 8:45 am]

BILLING CODE 3510-34-P